ENVIRONMENTAL PROTECTION AGENCY

[FRL-9115-3]

Science Advisory Board Staff Office; Notification of a Public Meeting and Public Teleconference(s) of the Clean Air Scientific Advisory Committee (CASAC) Particulate Matter Review Panel

AGENCY: Environmental Protection Agency (EPA).

ACTION: Notice.

SUMMARY: The Environmental Protection Agency (EPA) Science Advisory Board (SAB) Staff Office announces a public meeting on March 10-11, 2010 of the Clean Air Scientific Advisory Committee (CASAC) Particulate Matter Review Panel to review EPA's Particulate Matter Urban-Focused Visibility Assessment-Second External Review Draft (January 2010) and Quantitative Health Risk Assessment for Particulate Matter—Second External Review Draft (February 2010). The SAB Staff Office also announces a teleconference of the CASAC Particulate Matter Review Panel on April 8, 2010 to review EPA's Policy Assessment for the Review of Particulate Matter National Ambient Air Quality Standards—First External Review Draft (February 2010).

An optional public teleconference will be held on April 9, 2010 in the event more time is needed to discuss EPA's Policy Assessment following the April 8, 2010 teleconference.

DATES: The public meeting will be held on March 10, 2010 from 8:30 a.m. to 5 p.m. (Eastern Time) and March 11, 2010 from 8:30 a.m. to 2 p.m. (Eastern Time). A public teleconference will be held on April 8, 2010 from 10 a.m. to 2 p.m. (Eastern Time). An additional public teleconference will be held on April 9, 2010 from 10 a.m. to 12 p.m. (Eastern Time) in the event more time is needed.

ADDRESSES: The March 10-11, 2010 meeting will be held at the Marriott in Research Triangle Park, NC, 4700 Guardian Drive, Durham, North Carolina 27703. The public teleconferences will be conducted by telephone only.

FOR FURTHER INFORMATION CONTACT: Any member of the public who wants further information concerning the public meeting or public teleconferences may contact Dr. Holly Stallworth, Designated Federal Officer (DFO), EPA Science Advisory Board (1400F), U.S. Environmental Protection Agency, 1200 Pennsylvania Avenue, NW., Washington, DC 20460; via telephone/voice mail (202) 343-9867; fax (202) 233-0643; or e-mail at stallworth.holly@epa.gov. General information concerning the CASAC can be found on the EPA Web site at http://www.epa.gov/casac.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App 2. The Panel will comply with the provisions of FACA and all appropriate SAB Staff Office procedural policies.

Section 109(d)(1) of the CAA requires that the Agency periodically review and revise, as appropriate, the air quality criteria and the National Ambient Air Quality Standard (NAAQS) for the six “criteria” air pollutants, including particulate matter (PM). EPA conducts scientific and policy assessments related to both primary (health-based) and secondary (welfare-based) standards for each of these pollutants. As part of that process, the CASAC Particulate Matter Review Panel reviews a series of EPA's assessments that provide the basis for EPA rulemaking.

The purpose of the March 10-11, 2010 meeting is to review second drafts of the Particulate Matter Urban-Focused Visibility Assessment (January 2010) and Quantitative Health Risk Assessment for Particulate Matter (February 2010). In addition the March 10-11, 2010 meeting will also include a presentation on a first draft of EPA's Policy Assessment for the Review of the Particulate Matter National Ambient Air Quality Standards (Policy Assessment, February 2010). The Policy Assessment will serve to “bridge the gap” between the scientific information and the judgments required of the Administrator in determining whether it is appropriate to retain or revise the standards. The first draft Policy Assessment builds upon the key scientific and technical information contained in the Agency's Integrated Science Assessment for Particulate Matter (Final Report) (ISA, December 2009) as well as the two draft assessment documents titled Particulate Matter Urban-Focused Visibility Assessment: Second External Review Draft (January 2010) and Quantitative Health Risk Assessment for Particulate Matter: Second External Review Draft (February 2010). CASAC's deliberations on the first draft Policy Assessment will take place during the teleconference scheduled for April 8, 2010 and if more time is needed, on April 9, 2010.

Background information about the formation of the CASAC Particulate Matter Review Panel was published in the Federal Register on March 8, 2007 (72 FR 10527-10528). The Panel previously held a public teleconference on November 30, 2007 (announced in 72 FR 63177-63178) to provide consultative advice on EPA's draft Integrated Review Plan for the National Ambient Air Quality Standards for Particulate Matter (October 2007) the first document in this review of the PM NAAQS. On April 1-2, 2009, CASAC reviewed the Integrated Science Assessment for Particulate Matter—First External Review Draft (December 2008), and provided consultative advice on Particulate Matter National Ambient Air Quality Standards: Scope and Methods Plan for Health Risk and Exposure Assessment (February 2009) and Particulate Matter National Ambient Air Quality Standards: Scope and Methods Plan for Urban Visibility Impact Assessment (February 2009). The April 1-2, 2009 meeting was announced February 19, 2009 in 74 FR 7688-7689. As announced in 74 FR 46586—46587, on October 5-6, 2009, CASAC reviewed the Integrated Science Assessment for Particulate Matter—Second External Review Draft (July 2009) and Particulate Matter Urban Focused Visibility Assessment-External Review Draft (September 2009) and Risk Assessment to Support the Review of the PM Primary National Ambient Air Quality Standards-External Review Draft (September 2009).

Technical Contacts: Any questions concerning Particulate Matter Urban-Focused Visibility Assessment—Second External Review Draft (January 2010) should be directed to Ms. Vicki Sandiford, OAR, at sandiford.vicki@epa.gov or 919-541-2629. Any questions concerning EPA's Quantitative Health Risk Assessment for Particulate Matter—Second External Review Draft (February 2010) should be directed to Dr. Zachary Pekar, OAR, at pekar.zachary@epa.gov or 919-541-3704. Any questions concerning Policy Assessment for the Review of Particulate Matter National Ambient Air Quality Standards—First External Review Draft (February 2010) should be directed to Ms. Beth Hassett-Sipple, OAR, at hassett-sipple.beth@epa.gov or 919-541-4605.

Availability of Meeting Materials: All meeting materials (agenda, charge questions, preliminary comments and other materials) for the March 10-11, 2010 meeting and the April 8, 2010 and April 9, 2010 teleconferences will be placed on the CASAC Web site on the Web pages for those public meetings, accessible through the calendar link on the blue navigational bar at http://www.epa.gov/casac. The Particulate Matter Urban-Focused Visibility Assessment: (January 2010) is available at http://www.epa.gov/ttn/naaqs/standards/pm/s_pm_2007_risk.html. The Quantitative Health Risk Assessment for Particulate Matter—Second External Review Draft (February 2010) will be available on or about February 5, 2010 at http://www.epa.gov/ttn/naaqs/standards/pm/s_pm_2007_risk.html. The Policy Assessment for the Review of Particulate Matter National Ambient Air Quality Standards: First External Review Draft (February 2010) will be available on or about February 26, 2010 at http://www.epa.gov/ttn/naaqs/standards/pm/s_pm_2007_pa.html.

Procedures for Providing Public Input: Interested members of the public may submit relevant written or oral information for consideration on the topics included in this advisory activity. Oral Statements: To be placed on the public speaker list for the March 10-11, 2010 meeting, interested parties should notify Dr. Holly Stallworth, DFO, by e-mail no later than March 4, 2010. Individuals making oral statements will be limited to five minutes per speaker. To be placed on the public speaker list for the April 8, 2010 teleconference, interested parties should notify Dr. Stallworth, DFO, by e-mail no later than April 1, 2010. Individuals making oral statements on the teleconference will be limited to three minutes per speaker. Written Statements: Written statements for the March 10-11, 2010 meeting should be received in the SAB Staff Office by March 4, 2010, so that the information may be made available to the CASAC Panel for its consideration prior to this meeting. Written statements for the April 8, 2010 teleconference should be received in the SAB Staff Office by April 1, 2010. Written statements should be supplied to the DFO in the following formats: one hard copy with original signature and one electronic copy via e-mail (acceptable file format: Adobe Acrobat PDF, MS Word, WordPerfect, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Stallworth at the phone number or e-mail address noted above, preferably at least ten days prior to the teleconference, to give EPA as much time as possible to process your request.

Dated: February 16, 2010.
Vanessa T. Vu,
Director, EPA Science Advisory Board Staff Office.

[FR Doc. 2010-3518 Filed 2-22-10; 8:45 am]

BILLING CODE 6560-50-P